ENVIRONMENTAL PROTECTION AGENCY

[EPA-HQ-OPP-2022-0223; FRL-12246-02-OCSPP]

Chlorpyrifos; Final Cancellation Order To Amend Pesticide Registration To Terminate Asparagus Use

AGENCY: Environmental Protection Agency (EPA).

ACTION: Notice.

SUMMARY: The Environmental Protection Agency (EPA) hereby announces its final cancellation order to terminate asparagus use voluntarily requested by Gharda Chemicals International, Inc. (Gharda) and accepted by the Agency, for one chlorpyrifos registration listed in Unit II, pursuant to the Federal Insecticide, Fungicide, and Rodenticide Act (FIFRA). This final cancellation order follows a notice in the Federal Register of September 16, 2024, to voluntarily amend this product registration. In the September 16, 2024, notice, EPA indicated that it would issue a final cancellation order implementing the request, unless the Agency received substantive comments within the comment period that would merit further review of these requests, or the registrant withdrew its request. The Agency received two comments on the notice, which are summarized in Unit III.B. Gharda did not withdraw the request for this amendment. Accordingly, EPA hereby grants the requested amendment to terminate asparagus as shown in this cancellation order. Any distribution, sale, or use of existing stocks of the product registration listed in Unit II is subject to the existing stocks provisions in this cancellation order and permitted only in accordance with the terms of this order.

DATES: This cancellation order is effective January 3, 2025.

ADDRESSES: The docket for this action, identified by docket identification (ID) number EPA-HQ-OPP-2022-0223, is available at https://www.regulations.gov. Additional instructions on visiting the docket, along with more information about dockets generally, are available at https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: (202) 566-0700; email address: OPPChlorpyrifosInquiries@epa.gov.

SUPPLEMENTARY INFORMATION:

I. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

II. What action is the Agency taking?

This document announces the termination of the asparagus use, as requested by the registrant, through amendment of the product registered under FIFRA section 3 (7 U.S.C. 136a). This registration is listed with its registration number in Table 1 of this Unit.

Table 1—Chlorpyrifos Registration With Specific Use That Is Terminated
Registration No. | Product name | Company | Use that is terminated
93182-8 | Pilot 15G Chlorpyrifos Agricultural Insecticide | Gharda Chemicals International, Inc | Asparagus.

Table 2—Registrant Requesting Voluntary Termination of Use
EPA Company No. | Company name and address
93182 | Gharda Chemicals International, Inc., 4032 Crockers Lake Blvd., Suite 818, Sarasota, FL 34238.

III. Public Comments

A. Summary of Comments Received

EPA received two comments in response to the notice that published in the Federal Register of September 16, 2024 (89 FR 75546) (FRL-12246-01-OCSPP). The comments are in the docket for this action and are briefly summarized here.

Neither of the comments specifies the product listed in Table 1 of Unit II. One comment was submitted by a private citizen supporting the cancellation of the pesticide. The other comment stated that the proposed provisions for using existing stocks for food uses until June 30, 2025, would subject workers, bystanders, and consumers to health risks, and were not consistent with FIFRA.

B. EPA Response to Comments

This cancellation action is responsive to the registrant's request to cancel a specific use. In response to both commenters, under FIFRA section 6(f), registrants may, at any time, seek to cancel their products or seek to amend their registrations to terminate specific uses. Under that provision of the statute, EPA provides an opportunity for public comment and then acts on the request. Cancellation of other products or uses that are not requested by the registrant occurs under other provisions of FIFRA, which is beyond the scope of this action and EPA's authority in FIFRA section 6(f).

EPA has determined that the existing stocks provisions are not inconsistent with the purposes of FIFRA given the limited number of existing stocks and the limited time allowed for the use of existing stocks outlined in Unit VI. EPA has determined that neither comment merited denial of the registrant's request for use termination.

IV. The Cancellation Order

Pursuant to FIFRA section 6(f) (7 U.S.C. 136d(f)(1)), EPA hereby approves the requested amendment to terminate asparagus for Pilot 15G Chlorpyrifos Agricultural Insecticide. Accordingly, the Agency hereby orders that the use on asparagus is terminated for Pilot 15G Chlorpyrifos Agricultural Insecticide.

This Order terminating the asparagus use is effective January 3, 2025. Any distribution, sale, or use of existing stocks of Pilot 15G Chlorpyrifos Agricultural Insecticide in a manner inconsistent with any of the provisions for disposition of existing stocks set forth in Unit VI will be a violation of FIFRA.

V. What is the Agency's authority for taking these actions?

Section 6(f)(1) of FIFRA (7 U.S.C. 136d(f)(1)) provides that a registrant of a pesticide product may at any time request that any of its pesticide registrations be cancelled or amended to terminate one or more registered uses. FIFRA further provides that, before acting on the request, EPA must publish a notice of receipt of any such request in the Federal Register and provide a public comment period. EPA has provided the requisite notice and public comment period. Two comments were submitted to which EPA has responded above.

VI. Provisions for Disposition of Existing Stocks

Existing stocks for the product identified in this document are those stocks of registered pesticide product that are currently in the United States and that were packaged, labeled, and released for shipment prior to the effective date of the cancellation action. EPA has determined that the following existing stocks provisions are not inconsistent with the purposes of FIFRA given the limited number of existing stocks and the limited time allowed for use of the existing stocks outlined below:

• Sale and distribution of existing stocks of Pilot 15G Chlorpyrifos Agricultural Insecticide (EPA Reg. No. 93182-8) is permitted until April 30, 2025;

• Use of existing stocks of Pilot 15G Chlorpyrifos Agricultural Insecticide (EPA Reg. No. 93182-8) on food or feed must be consistent with the product labeling. Such use is permitted until June 30, 2025;

• Use of existing stocks of Pilot 15G Chlorpyrifos Agricultural Insecticide (EPA Reg. No. 93182-8) for non-food purposes is permitted until existing stocks are exhausted, as long as such use is in accordance with the labeling.

After these dates, all respective sale, distribution, and use of existing stocks is prohibited, except for sale and distribution for export consistent with FIFRA section 17 (7 U.S.C. 136o) and for proper disposal in accordance with state regulations.

Authority: 7 U.S.C. et seq.

Dated: December 17, 2024.
Jean Overstreet,
Director, Pesticide Re-Evaluation Division, Office of Pesticide Programs.

[FR Doc. 2024-31586 Filed 1-2-25; 8:45 am]

BILLING CODE 6560-50-P